DEPARTMENT OF THE INTERIOR

National Park Service

[NPS-WASO-NRNHL-DTS#-40938; PPWOCRADI0, PCU00RP14.R50000]

National Register of Historic Places; Notification of Pending Nominations and Related Actions

AGENCY: National Park Service, Interior.

ACTION: Notice.

SUMMARY: The National Park Service is soliciting electronic comments on the significance of properties nominated before August 9, 2025, for listing or related actions in the National Register of Historic Places.

DATES: Comments should be submitted electronically by October 7, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before August 9, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

CONNECTICUT

New Haven County

Scully, Vincent J. and Susannah K., House (Mid-Twentieth-Century Modern Residences in Connecticut 1930-1979, MPS), 68 Orchard Road, Woodbridge, MP100012233

KENTUCKY

Christian County

Moore, Dr. Bankie Oliver and Mamie, House, 1030 East 4th Street, Hopkinsville, SG100012238

Daviess County

Alexander-Ford Farmhouse, 5785 Highway 144, Thruston, SG100012240

Fayette County

Mentelle House, 116 Lincoln Avenue, Lexington, SG100012239

Hart County

Henrytown Historic District, Bounded by US 31-W, the CSX railroad tracks, McFerran Street, S.R. 335, Peebles and Smith Streets, and Guthrie Street, Horse Cave, SG100012241

Memorial Elementary School (Historic Public Schools of Kentucky MPS), 1400 N Jackson Hwy., Hardyville, MP100012242

McLean County

J.W. Quigg Establishment, 304 Main St., Livermore, SG100012243

Shelby County

Scott's Station Interurban Power House, 3651 Shelbyville Road, Shelbyville, SG100012244

MAINE

Cumberland County

Reed, Amos O., House, 19 High Street, Brunswick, SG100012234

Hancock County

Wilson Museum, 107 Perkins Street, Castine, SG100012235

MISSISSIPPI

Harrison County

Greater Biloxi Subdivision, Roughly bounded by Greater Avenue, Althea Street, Southern Avenue, and Orchid Street, Biloxi, SG100012236

NEBRASKA

Fillmore County

First Congregational United Church of Christ, 906 H St., Geneva, SG100012251

NEW HAMPSHIRE

Hillsborough County

Kalil House, 117 Heather Street, Manchester, SG100012252

NEW YORK

Monroe County

Wilkinson-Lent House, 270 Wilkinson Road, Perinton, SG100012250

Suffolk County

High House & Studio, 7134 Indian Neck Lane, Southold (Hamlet of Peconic), SG100012249

VIRGINIA

Richmond INDEPENDENT CITY

Main Street Banking Historic District (Boundary Decrease), 700 E Main St., 705-711 E Main St., 801 E Main St., 830-838 E Main St., Richmond, BC100012247

WISCONSIN

Crawford County

Blackhawk Avenue Historic District, 100-225 W Blackhawk Ave., 101-130 E Blackhawk Ave., 201-213 E Blackhawk Ave. (odd only) and 108 N Beaumont Rd., Prairie du Chien, SG100012253

WYOMING

Uinta County

Evanston Chinatown, China Mary Road (A Avenue) and County Road (Almy Road), Evanston vicinity, SG100012237

Additional documentation has been received for the following resource(s):

VIRGINIA

Richmond INDEPENDENT CITY

Main Street Banking Historic District (Additional Documentation), 700 E Main St., 705-711 E Main St., 801 E Main St., 830-838 E Main St., Richmond, AD05000527

(Authority: Section 60.13 of 36 CFR part 60.)

Sherry A. Frear,
Chief, National Register of Historic Places/National Historic Landmarks Program.

[FR Doc. 2025-18247 Filed 9-19-25; 8:45 am]

BILLING CODE 4312-52-P